Title 3—

The President

Presidential Determination No. 2013-17 of September 30, 2013

Determination With Respect to the Child Soldiers Prevention Act of 2008

Memorandum for the Secretary of State

Pursuant to section 404 of the Child Soldiers Prevention Act of 2008 (CSPA) (title IV, Public Law 110-457), I hereby determine that it is in the national interest of the United States to waive the application of the prohibition in section 404(a) of the CSPA with respect to Chad, South Sudan, and Yemen; to waive in part the application of the prohibition in section 404(a) of the CSPA with respect to the Democratic Republic of the Congo to allow for continued provision of International Military Education and Training (IMET) and nonlethal Excess Defense Articles, and the issuance of licenses for direct commercial sales of nonlethal defense articles; and to waive in part the application of the prohibition in section 404(a) of the CSPA with respect to Somalia to allow for the issuance of licenses for direct commercial sales of nonlethal defense articles, provision of IMET, and continued provision of assistance under the Peacekeeping Operations authority for logistical support and troop stipends. I hereby waive such provisions accordingly.

You are authorized and directed to submit this determination to the Congress, along with the accompanying Memorandum of Justification, and to publish the determination in the Federal Register.

THE WHITE HOUSE,

Washington, September 30, 2013.

[FR Doc. 2013-25122

Filed 10-22-13; 11:15 am]

Billing code 4710-10